DEPARTMENT OF HOUSING AND URBAN DEVELOPMENT

24 CFR Parts 21 and 24

[Docket No. FR-4692-C-3]

RIN 2501-AC81

Suspension, Debarment, Limited Denial of Participation and Drug-Free Workplace; Technical Correction

AGENCY: Office of the General Counsel, HUD.

ACTION: Final rule; technical correction.

SUMMARY: On November 26, 2003, HUD published a final rule adopting the Interagency Suspension and Debarment Committee's 2003 enactment of a Nonprocurement Common Rule for Suspensions and Debarments (NCR) as well as Drug-Free Workplace regulations. The Department's adoption of the NCR also contained agency specific provisions. This document corrects the final rule by replacing reserved sections with previously published agency specific information and providing agency specific citations.

DATES: Effective Date: November 26, 2003.

FOR FURTHER INFORMATION CONTACT: Dane Narode, Assistant General Counsel, Office of Program Enforcement, Administrative Proceedings Division, Department of Housing and Urban Development, 1250 Maryland Avenue, Suite 200, Washington, DC 20024; telephone (202) 708-2350 (this is not a toll-free number); e-mail: Dane_M._Narode@HUD.gov. Hearing-impaired or speech-impaired individuals may access the voice telephone number listed above by calling the Federal Information Relay Service toll-free at 1-800-877-8339.

SUPPLEMENTARY INFORMATION: On November 26, 2003 (68 FR 66534), HUD published a final rule adopting the Interagency Suspension and Debarment Committee's NCR, Drug-Free Workplace regulations and enacting agency specific additions to those common rules. In four instances, agency specific provisions were not inserted where necessary to comport with the common rule format.

Accordingly, HUD's adoption of, and additions to, the Governmentwide Debarment and Suspension (Nonprocurement) and Requirements for Drug-Free Workplace (Grants) Rules (FR-4692-F-01) published in the Federal Register on November 26, 2003 (FR Doc. 03-28454) is correctly amended as follows:

§ 21.510 [Amended]

1. Section 21.510(c) on page 66559 is further amended by removing “[CFR citation for the Federal Agency's regulations implementing Executive Order 12549 and Executive Order 12689]” and adding “24 CFR part 24” in its place.

§ 21.605 [Amended]

2. Section 21.605(a)(2) on page 66560 is further amended by removing “[Agency specific CFR citation]” and adding “24 CFR part 24” in its place.

§ 24.25 [Amended]

3. Section 24.25(a) on page 66545 is further amended by removing “[Reserved]” and adding “Limited Denial of Participation” in its place.

4. Section 24.25(b)(7) on page 66546 is further amended by removing “Reserved” and adding “involved in HUD transactions” in its place.

Dated: March 3, 2004.
Aaron Santa Anna,
Assistant General Counsel for Regulations.

[FR Doc. 04-5397 Filed 3-9-04; 8:45 am]

BILLING CODE 4210-67-P